DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

Adult Human Dental Pulp Stem Cells in vitro and in vivo

Dr. Songtao Shi et al. (NIDCR)

U.S. Patent Application No. 10/333,522 filed 17 Jan 2003 (HHS Reference No. E-233-2000/0-US-03), claiming priority to 21 Jul 2000.

Licensing Contact: Marlene Shinn-Astor; (301) 435-4426; shinnm@mail.nih.gov

.

Many individuals with ongoing and severe dental problems are faced with the prospect of permanent tooth loss. Examples include dentinal degradation due to caries or periodontal disease; (accidental) injury to the mouth; and surgical removal of teeth due to tumors associated with the jaw. Clearly, a technology that offers a possible alternative to artificial dentures by designing and transplanting a set of living teeth fashioned from the patient's own pulp cells would greatly improve the individual's quality of life.

The NIH announces a new technology wherein dental pulp stem cells from an individual's own postnatal dental pulp tissue (one or two wisdom teeth) can potentially be used to engineer healthy living teeth. This technology is based upon the discovery of a subpopulation of cells within normal human dental pulp tissue that has the ability to grow and proliferate in vitro. These (dental pulp) stem cells can be induced under defined culture conditions to form calcified nodules in vitro and have been shown to differentiate into a dentin/pulp like structure in vivo.

Postnatal Stem Cells and Uses Thereof

Drs. Songtao Shi and Pamela Robey (NIDCR)

PCT Application No. PCT/US03/12276 filed 19 Apr 2003 (HHS Reference No. E-018-2003/0-PCT-01), which published as WO 2004/094588 A2 on 04 Nov 2004.

Licensing Contact: Marlene Shinn-Astor; (301) 435-4426; shinnm@mail.nih.gov.

Many individuals with ongoing and severe dental problems are faced with the prospect of permanent tooth loss. Examples of such dental problems include: Dentinal degradation due to chronic dental disease (caries or periodontal); mouth injury; or through surgical removal, such as with tumors associated with the jaw. For many, a technology that offers a possible alternative to artificial dentures by designing and transplanting a set of living teeth fashioned from an individual's own pulp cells would greatly improve their quality of life.

The NIH announces a new technology wherein human postnatal deciduous dental pulp stem cells commonly known as “baby teeth”, are used to create dentin and have been shown to differentiate into cells of specialized function such as neural cells, adipocytes, and odontoblasts. It is believed that these cells could be manipulated to repair damaged teeth, induce the regeneration of bone, and treat neural injury or disease.

This research is described, in part, in Miura et al., “SHED: Stem cells from human exfoliated deciduous teeth,” Proc. Natl. Acad. Sci. USA, vol. 100 (no. 10; May 13, 2003) pp. 5807-5812.

Multipotent Postnatal Stem Cells From Human Periodontal Ligament and Uses Thereof

Dr. Songtao Shi et al. (NIDCR)

PCT Application No. PCT/US04/39248 filed 22 Nov 2004 (HHS Reference No. E-033-2004/0-PCT-02), claiming priority to 20 Nov 2003.

Licensing Contact: Marlene Shinn-Astor; (301) 435-4426; shinnm@mail.nih.gov.

It is estimated that over 40 percent of the adult population in the United States has periodontal disease in one form or another. Periodontal Disease is a chronic infection of the periodontal ligament (PDL) and the adjacent bone and cementum. The effects of Periodontal Disease range from simple gum inflammation to, in extreme cases, tooth loss.

The NIH announces a new technology wherein stem cells from the PDL have been isolated from adult human PDL. These cells are capable of forming cementum and PDL in immunocompromised mice. In cell culture, PDL stem cells differentiate into collagen fiber forming cells (fibroblasts), cementoblasts, and adipocytes. It is anticipated that these PDL stem cells will be useful for periodontal tissue regeneration to treat periodontal disease.

Dated: July 15, 2005.
Steven M. Ferguson,
Director, Division of Technology Development and Transfer, Office of Technology Transfer, National Institutes of Health.

[FR Doc. 05-14498 Filed 7-21-05; 8:45 am]

BILLING CODE 4140-01-P